DEPARTMENT OF HOMELAND SECURITY

Coast Guard

33 CFR Part 100

[Docket Number USCG-2015-0705]

RIN 1625-AA08

Special Local Regulations; Marine Events Held in the Sector Long Island Sound Captain of the Port Zone; Correction

AGENCY: Coast Guard, DHS.

ACTION: Temporary final rule; correction.

SUMMARY: On August 13, 2015, the Coast Guard published in the Federal Register (80 FR 48436) a temporary final rule establishing five special local regulations for marine events held in the Sector Long Island Sound Captain of the Port Zone. Four of the marine events have already taken place. Inadvertently, this rule included an error in the date of the fifth special local regulation established in support of the “War Writers Campaign Kayak For Cause” event. This document corrects that error.

DATES: This rule is effective from August 20, 2015 through August 23, 2015.

ADDRESSES: Documents mentioned in this preamble are part of Docket Number USCG-2015-0705. To view documents mentioned in this preamble as being available in the docket, go to http://www.regulations.gov, type the docket number in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, contact Petty Officer Ian Fallon, Prevention Department, Coast Guard Sector Long Island Sound, telephone (203) 468-4565, email Ian.M.Fallon@uscg.mil. If you have questions on viewing or submitting material to the docket, call Cheryl Collins, Program Manager, Docket Operations, telephone (202) 366-9826.

SUPPLEMENTARY INFORMATION: On August 13, 2015, the Coast Guard published in the Federal Register a temporary final rule establishing five special local regulations for marine events held in the Sector Long Island Sound Captain of the Port Zone (80 FR 48436). Four of the marine events have already taken place. Inadvertently, the rule included an error in the date of the fifth special local regulation established in support of the “War Writers Campaign Kayak For Cause” event.

As stated in the Federal Register publication of the temporary final rule, the special local regulation for the “War Writers Campaign Kayak For Cause” event would be enforced on August 28, 2015. Due to a clerical error, the enforcement date was incorrect. The correct date for the special local regulation in support of the “War Writers Campaign Kayak For Cause” event is August 23, 2015.

Shortly after publication of the temporary final rule in the Federal Register, the Coast Guard became aware of the error in the text relating to the date. This notice corrects the error by publishing the correct date of the special local regulation, August 23, 2015.

List of Subjects in 33 CFR Part 100

Marine safety, Navigation (water), Reporting and record keeping requirements, Waterways.

For the reasons discussed in the preamble, the Coast Guard amends 33 CFR part 100 as follows:

PART 100—SAFETY OF LIFE ON NAVIGABLE WATERS

1. The authority citation for part 100 continues to read as follows:

Authority: 33 U.S.C. 1233.

2. Revise item (5) of TABLE to § 100.35T01-0705 to read as follows:

§ 100.35T01-0705 Special Local Regulations; Marine Events in Captain of the Port Long Island Sound Zone.

* * * * *

* * * * * * *
(5) War Writers Campaign Kayak For Cause | • Date: August 23, 2015. • Time: 7:30 a.m. to 4:30 p.m.
| • Location: All waters of Long Island Sound along the regatta route from Bridgeport, CT to Port Jefferson, NY along positions 41°09′40″ N; 073°11′04″ W, then southeast near Stratford Shoal at position 41°03′41″ N; 073°06′24″ W then south to Port Jefferson at position 40°58′37″ N; 073° 05′49″ W. (NAD 83).
| • Additional stipulations: All persons transiting through the area shall maintain a minimum distance of 100 yards from the kayakers.

Dated: August 17, 2015.
Katia Kroutil,
Chief, Office of Regulations and Administrative Law, U.S. Coast Guard.

[FR Doc. 2015-20608 Filed 8-19-15; 8:45 am]

BILLING CODE 9110-04-P